DEPARTMENT OF ENERGY

Federal Energy Regulatory Commission

[Docket No. AD18-9-000]

Notice of Electric Quarterly Report Users Group Meeting

On March 6, 2018 the Federal Energy Regulatory Commission (Commission) issued a notice that Commission staff will hold an Electric Quarterly Report (EQR) Users Group meeting on June 5, 2018. The meeting will take place from 1:00 p.m. to 5:00 p.m. (EST), in the Commission Meeting Room at 888 First Street NE, Washington, DC 20426. All interested persons are invited to attend. For those unable to attend in person, access to the meeting will be available via webcast.

Commission staff is hereby supplementing the March 6, 2018 notice with the agenda for discussion. During the meeting, Commission staff and EQR users will discuss potential improvements to the EQR program and the EQR filing process. Recent meetings have focused on issues pertaining primarily to EQR filers. However, in the upcoming meeting, staff will also include sessions for those accessing and using EQR data. While discussion topics to be considered for the formal agenda were due by April 16, 2018, feedback may be emailed to EQRUsersGroup@ferc.gov.

Commission staff will discuss and seek feedback on common EQR audit findings, techniques for accessing EQR data, and examples of how EQR data is used and interpreted. Please note that matters pending before the Commission and subject to ex parte limitations cannot be discussed at this meeting. An agenda of the meeting is attached.

Due to the nature of the discussion, those interested in participating are encouraged to attend in person. All interested persons (whether attending in person or via webcast) are asked to register online at http://www.ferc.gov/whats-new/registration/06-05-18-form.asp. There is no registration fee. Anyone with internet access can listen to the meeting by navigating to www.ferc.gov' s Calendar of Events, locating the EQR Users Group Meeting on the Calendar, and clicking on the link to the webcast. The webcast will allow persons to listen to the technical conference and send questions during the meeting to EQRUsersGroup@ferc.gov. In the event you would also like to participate in the meeting dialogue by phone please select the telephone option when registering. If you have already registered for the meeting, and would like to participate by phone, please re-register and select the telephone option.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the EQR Users Group meeting, please contact Jeff Sanders of the Commission's Office of Enforcement at (202) 502-6455, or send an email to EQRUsersGroup@ferc.gov.

Dated: May 3, 2018.
Nathaniel J. Davis, Sr.,
Deputy Secretary.

Agenda

EQR Users Group Meeting Commission Meeting Room

Tuesday, June 5, 2018

1:00-1:15 p.m.

Welcome, Introductions, and Logistics

—Agenda Review

—Ex Parte Limitations

—Meeting Rules for Comments and Questions

1:15-1:45 p.m.

Updates Since Last Meeting

—New Frequently Asked Questions posted to EQR website

—RTO/ISO Data Alignment Project Update

1:45-2:30 p.m.

Common EQR Audit Findings

2:30-3:15 p.m.

EQR Data Access

—Methods for accessing EQR data

—Feedback from EQR users on accessing EQR data

3:15-3:30 p.m.

Break

3:30-4:15 p.m.

EQR Data Uses

—Applications of EQR data

—Feedback from EQR users on EQR data uses

4:15-4:45 p.m.

Data Interpretation

—Interpreting EQR data using additional data sources

—Feedback from EQR users on interpreting EQR data

4:45-5:00 p.m.

Open Discussion

5:00 p.m.

End of Meeting—Closing Remarks

[FR Doc. 2018-09857 Filed 5-8-18; 8:45 am]

BILLING CODE 6717-01-P